DEPARTMENT OF HOMELAND SECURITY

Federal Emergency Management Agency

[Docket ID FEMA-2022-0002]

Final Flood Hazard Determinations

AGENCY: Federal Emergency Management Agency, Department of Homeland Security.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP).

DATES: The date of November 17, 2022 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Michael M. Grimm,
Assistant Administrator for Risk Management, Department of Homeland Security, Federal Emergency Management Agency.

Community | Community map repository address
Lee County, Florida and Incorporated Areas
Docket No.: FEMA-B-2032
City of Bonita Springs | Community Development, 9220 Bonita Beach Road, Bonita Springs, FL 34135.
City of Cape Coral | Community Development, 1015 Cultural Park Boulevard, Cape Coral, FL 33990.
City of Fort Myers | Building Department, 1825 Hendry Street, Fort Myers, FL 33901.
City of Sanibel | City Hall, 800 Dunlop Road, Sanibel, FL 33957.
Town of Fort Myers Beach | Public Works Department, 2525 Estero Boulevard, Fort Myers Beach, FL 33931.
Unincorporated Areas of Lee County | Lee County Community Development and Public Works Center, 1500 Monroe Street, Fort Myers, FL 33901.
Village of Estero | Community Development Department, 9401 Corkscrew Palms Circle, 1st Floor, Estero, FL 33928.
Pottawatomie County, Kansas and Incorporated Areas
Docket Nos.: FEMA-B-2036 and FEMA-B-2170
City of Belvue | City Hall, 308 Broadway Street, Belvue, KS 66407.
City of St. Marys | City Hall, 200 South 7th Street, St. Marys, KS 66536.
City of Wamego | City Hall, 430 Lincoln Avenue, Wamego, KS 66547.
Unincorporated Areas of Pottawatomie County | Pottawatomie County Administration Building, 207 North 1st Street, Westmoreland, KS 66549.
Rice County, Kansas and Incorporated Areas
Docket Nos.: FEMA-B-2014 and FEMA-B-2173
City of Bushton | City Hall, 217 South Main Street, Bushton, KS 67427.
City of Chase | City Hall, 507 Main Street, Chase, KS 67524.
City of Frederick | Rice County Planning and Zoning, 718 West 5th Street, Lyons, KS 67554.
City of Geneseo | City Hall, 802 Silver Avenue, Geneseo, KS 67444.
City of Little River | City Hall, 123 Main Street, Little River, KS 67457.
City of Lyons | City Hall, 201 West Main Street, Lyons, KS 67554.
City of Raymond | City Hall, 105 West 4th Street, Raymond, KS 67573.
City of Sterling | City Hall, 114 North Broadway, Sterling, KS 67579.
Unincorporated Areas of Rice County | Rice County Planning and Zoning, 718 West 5th Street, Lyons, KS 67554.
Koochiching County, Minnesota and Incorporated Areas
Docket No.: FEMA-B-2145
City of Big Falls | City Office, 410 2nd Street Northwest, Big Falls, MN 56627.
City of International Falls | Municipal Building, City Administrator's Office, 600 4th Street, International Falls, MN 56649.
City of Littlefork | City Hall, 901 Main Street, Littlefork, MN 56653.
City of Ranier | Community Building, 2099 Spruce Street, Ranier, MN 56668.
Red Lake Band of Chippewa Tribe | Red Lake Nation Government Center, 15484 Migizi Drive, Red Lake, MN 56671.
Unincorporated Areas of Koochiching County | Koochiching County Courthouse, Environmental Services Department, 715 4th Street, International Falls, MN 56649.

[FR Doc. 2022-14765 Filed 7-11-22; 8:45 am]

BILLING CODE 9110-12-P